DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the period of November 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or (B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of Section 222 have been met.

TA-W-57,942; Ethan Allen Operations, Inc., Dublin, VA: September 9, 2004.

TA-W-58,049; Stearns, Inc., Sauk Rapids, MN: September 29, 2004.

TA-W-58,049A; Stearns, Inc., Grey Eagle, MN: September 29, 2004.

TA-W-58,082; True Temper Sports, Including Leased Workers of Eastridge Temp Service, El Cajon, CA: September 28, 2004.

TA-W-58,123; Wright Plastic Products, LLC, Div. of Synlastech, Sheridan, MI: October 2004.

TA-W-58,134; Kemco, Inc., Travelers Rest, SC: October 13, 2004.

TA-W-58,174; Needletrade Services, LTD, Fall River, MA: October 18, 2004.

TA-W-58,187; Amerex Group, Inc., Cottage Grove, WI: October 8, 2004.

TA-W-58,195; Kinesis USA, Inc., Portland, OR: October 13, 2004.

TA-W-58,203; American Recreation Products, Custom Sewing Div., New Haven, MO: October 24, 2004.

TA-W-58,211; Fisher Technical Development, Inc., Columbia, MD: October 25, 2004.

TA-W-58,227; Average Joe, Inc., Los Angeles, CA: October 18, 2004.

TA-W-58,229; Dubuit of America, Niles, IL: October 17, 2004.

TA-W-58,264; Regency Sportswear, Inc., Selmer, TN: November 2, 2004.

TA-W-58,306; MECO Corporation, On-Site Leased Workers of Work Temporary Agency, Greeneville, TN: November 4, 2004.

The following certifications have been issued. The requirements of (a)(2)(B) (shift in production) of Section 222 have been met.

TA-W-58,079; Industrial Wire Products, Inc., Sullivan, MO: October 4, 2004.

TA-W-58,090; Texas Instruments, Inc., Sensors and Controls Div., Attleboro, MA: November 11, 2005.

TA-W-58,100; U.S. Electrical Motors, A Division of Emerson Electric, Mena, AR: October 7, 2004.

TA-W-58,103; Panasonic Home Appliances Company, Danville, KY: October 5, 2004.

TA-W-58,105; Eastman Kodak Company, Rochester Film Finishing Division, Rochester, NY: November 22, 2004.

TA-W-58,155; Vansco Electronics, Inc., Valley City, ND: June 5, 2004.

TA-W-58,164; Dan River, Inc., Apparel Div., Rutherfordton, NC: October 18, 2004.

TA-W-58,235; MBTM Ltd, Inc., Munith, MI: October 26, 2004.

TA-W-58,305; TRW Automotive, Kelsey-Hayes Kingsway Plant, Fremont, OH: November 9, 2004.

The following certification has been issued. The requirement of supplier to a trade certified firm has been met.

TA-W-58,102; H. Warshow and Sons, Inc., Milton Pennsylvania Div., Milton, PA: November 22, 2005.

Negative Determinations for Worker Adjustment Assistance

In the following cases, the investigation revealed that the criteria for eligibility have not been met for the reasons specified.

The investigation revealed that criterion (a)(2)(A)(I.A) and (a)(2)(B)(II.A) (no employment decline) has not been met.

TA-W-58,089; Somika Designs, Shelby, NC.

TA-W-58,101; Honeywell International, Strategic Sensors Group, Glendale, AZ.

TA-W-58,149; Federal Mogul, Sparta Tennessee Division, Sparta, TN.

TA-W-58,318; VI Prewett and Son, Inc., Fort Payne, AL.

The investigation revealed that criteria (a)(2)(A)(I.B.) (Sales or production, or both, did not decline) and (a)(2)(B)(II.B) (No shift in production to a foreign country) have not been met.

TA-W-58,044; Midwest Air Technologies, Mountain Grove, MO.

TA-W-58,168; Cooper Hand Tools, Campbell Division, York, PA.

TA-W-58,244; Hexcel Corporation, Reinforcements Division, Washington, GA.

TA-W-58,284; Volvo Construction Equipment, NA, Skyland, NC.

The investigation revealed that criteria (a)(2)(A)(I.C.) (increased imports) and (a)(2)(B)(II.B) (No shift in production to a foreign country) have not been met.

TA-W-58,037; Cabot Supermetals, Supermetals Div., Boyertown, PA.

TA-W-58,095; Premier Quilting Corporation, Oxford, NC.

TA-W-58,213; Celand Yarn Dyers, Inc., Thomasville, NC.

The workers' firm does not produce an article as required for certification under Section 222 of the Trade Act of 1974.

TA-W-58,085; EMC Corporation, Cincinnati, OH.

TA-W-58,094; Metron North America, Knoxville, TN.

TA-W-58,109; Telespectrum, Inc., The Resource Group, Salisbury, NC.

TA-W-58,113; Unifi, Unimatrix, a wholly owned Sub., Greensboro, NC.

TA-W-58,129; United Airlines, Inc., Aircraft Maintenance Division, Elk Grove Village, IL.

TA-W-58,129A; United Airlines, Inc., Los Angeles International Airport (LAX), Los Angeles, CA.

TA-W-58,129B; United Airlines, Inc., San Diego/Lindberg Field (SAN), San Diego, CA.

TA-W-58,129C; United Airlines, Inc., Denver International Airport (DEN), Denver, CO.

TA-W-58,129D; United Airlines, Inc., McCarran International Airport (LAS), Las Vegas, NV.

TA-W-58,129E; United Airlines, Inc., Honolulu Airport (HNL), Honolulu, HI.

TA-W-58,129F; United Airlines, Inc., Keahole Airport (KOA), Kona, HI.

TA-W-58,129G; United Airlines, Inc., Lihue Airport (LIH), Kauai, HI.

TA-W-58,129H; United Airlines, Inc., Kahului Airport (OGG), Kahului, HI.

TA-W-58,129I; United Airlines, Inc., San Francisco International Airport (SFO), San Francisco, CA.

TA-W-58,129J; United Airlines, Inc., Seattle/Tacoma International Airport (SEA), Seattle, WA.

TA-W-58,129K; United Airlines, Inc., Portland International Airport (PDX), Portland, WA.

TA-W-58,129L; United Airlines, Inc., Newark International Airport (EWR), Newark, NJ.

TA-W-58,129M; United Airlines, Inc., John F. Kennedy International Airport (JFK), New York, NY.

TA-W-58,129N; United Airlines, Inc., La Guardia Airport (LGA), New York, NY.

TA-W-58,129O; United Airlines, Inc., Philadelphia International Airport (PHL), Philadelphia, PA.

TA-W-58,129P; United Airlines, Inc., Bradley International Airport (BDL), Windsor Locks, CT.

TA-W-58,129Q; United Airlines, Inc., Logan International Airport (BOS), Boston, MA.

TA-W-58,129R; United Airlines, Inc., Detroit/Wayne County Airport (DTW), Detroit, MI.

TA-W-58,129S; United Airlines, Inc., Baltimore/Washington International Airport (BWI), Baltimore, MD.

TA-W-58,129T; United Airlines, Inc., AFB Municipal Airport (CHS), Charleston, SC.

TA-W-58,129U; United Airlines, Inc., Airport (CHS), Washington, DC.

TA-W-58,129V; United Airlines, Inc., Airport (CHS), Dulles, VA.

TA-W-58,129W; United Airlines, Inc., Orlando International Airport (MCO), Orlando, FL.

TA-W-58,129X; United Airlines, Inc., Airport (CHS), Miami, FL.

TA-W-58,129Y; United Airlines, Inc., Indianapolis International Airport (IND), Indianapolis, IN.

TA-W-58,129Z; United Airlines, Inc., O'Hare International Airport (ORD), Chicago, IL.

TA-W-58,160; Ingram Micro, Santa Ana, CA.

TA-W-58,186; Microsoft Corporation, Americas Customer Service, Charlotte, NC.

TA-W-58,221; Cambridge Integrated Services Group, Inc., A Subsidiary of Cambridge Services Holdings, LLC, Mt. Clemens, MI.

TA-W-58,249; FMC Idaho, LLC, A Subsidiary of FMC Corporation, Formerly Astaris, LLC, Pocatello, ID.

TA-W-58,298; Messier Services, Inc., A Subsidiary of the Safran Group, Sterling, VA.

The investigation revealed that criteria (2) has not been met. The workers' firm (or subdivision) is not a supplier or downstream producer to trade-affected companies.

TA-W-58,055; New Venture Industries, Grand Blanc, MI.

Affirmative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-57,942; Ethan Allen Operations, Inc., Dublin, VA: September 9, 2004.

TA-W-58,049; Stearns, Inc., Sauk Rapids, MN: September 29, 2004.

TA-W-58,049A; Stearns, Inc., Grey Eagle, MN: September 29, 2004.

TA-W-58,082; True Temper Sports, Including Leased Workers of Eastridge Temp Service, El Cajon, CA: September 28, 2004.

TA-W-58,123; Wright Plastic Products, LLC, Div. of Synlastech, Sheridan, MI: October 10, 2004.

TA-W-58,174; Needletrade Services, LTD, Fall River, MA: October 18, 2004.

TA-W-58,203; American Recreation Products, Custom Sewing Div., New Haven, MO: October 24, 2004.

TA-W-58,227; Average Joe, Inc., Los Angeles, CA: October 18, 2004.

TA-W-58,229; Dubuit of America, Niles, IL: October 17, 2004.

TA-W-58,264; Regency Sportswear, Inc., Selmer, TN: November 2, 2004.

TA-W-58,306; MECO Corporation, On-Site Leased Workers of Work Temporary Agency, Greeneville, TN: November 4, 2004.

TA-W-58,079; Industrial Wire Products, Inc., Sullivan, MO: October 4, 2004:

TA-W-58,090; Texas Instruments, Inc., Sensors and Controls Div., Attleboro, MA: November 11, 2004.

TA-W-58,100; U.S. Electrical Motors, A Division of Emerson Electric, Mena, AR: October 7, 2004.

TA-W-58,105; Eastman Kodak Company, Rochester Film Finishing Division, Rochester, NY: November 22, 2005.

TA-W-58,155; Vansco Electronics, Inc., Valley City, ND: October 5, 2004.

TA-W-58,164; Dan River, Inc., Apparel Div., Rutherfordton, NC: October 18, 2004.

TA-W-58,235; MBTM Ltd, Inc., Munith, MI: October 26, 2004.

TA-W-58,305; TRW Automotive, Kelsey-Hayes Kingsway Plant, Fremont, OH: November 9, 2004:

TA-W-58,102; H. Warshow and Sons, Inc., Milton Pennsylvania Div., Milton, PA: November 22, 2005.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-58,089; Somika Designs, Shelby, NC.

TA-W-58,101; Honeywell International, Strategic Sensors Group, Glendale, AZ.

TA-W-58,149; Federal Mogul, Sparta Tennessee Division, Sparta, TN.

TA-W-58,318; VI Prewett and Son, Inc., Fort Payne, AL.

TA-W-58,168; Cooper Hand Tools, Campbell Division, York, PA.

TA-W-58,244; Hexcel Corporation, Reinforcements Division, Washington, GA.

TA-W-58,284; Volvo Construction Equipment, NA, Skyland, NC.

TA-W-58,037; Cabot Supermetals, Supermetals Div., Boyertown, PA.

TA-W-58,095; Premier Quilting Corporation, Oxford, NC.

TA-W-58,213; Celand Yarn Dyers, Inc., Thomasville, NC.

TA-W-58,085; EMC Corporation, Cincinnati, OH.

TA-W-58,113; Unifi, Unimatrix, a wholly owned Sub., Greensboro, NC.

TA-W-58,129; United Airlines, Inc., Aircraft Maintenance Division, Elk Grove Village, IL.

TA-W-58,129A; United Airlines, Inc., Los Angeles International Airport (LAX), Los Angeles, CA.

TA-W-58,129B; United Airlines, Inc., San Diego/Lindberg Field (SAN), San Diego, CA.

TA-W-58,129C; United Airlines, Inc., Denver International Airport (DEN), Denver, CO.

TA-W-58,129D; United Airlines, Inc., McCarran International Airport (LAS), Las Vegas, NV.

TA-W-58,129E; United Airlines, Inc., Honolulu Airport (HNL), Honolulu, HI.

TA-W-58,129F; United Airlines, Inc., Keahole Airport (KOA), Kona, HI.

TA-W-58,129G; United Airlines, Inc., Lihue Airport (LIH), Kauai, HI.

TA-W-58,129H; United Airlines, Inc., Kahului Airport (OGG), Kahului, HI.

TA-W-58,129I; United Airlines, Inc., San Francisco International Airport (SFO), San Francisco, CA.

TA-W-58,129J; United Airlines, Inc., Seattle/Tacoma International Airport (SEA), Seattle, WA.

TA-W-58,129K; United Airlines, Inc., Portland International Airport (PDX), Portland, WA.

TA-W-58,129L; United Airlines, Inc., Newark International Airport (EWR), Newark, NJ.

TA-W-58,129M; United Airlines, Inc., John F. Kennedy International Airport (JFK), New York, NY.

TA-W-58,129N; United Airlines, Inc., La Guardia Airport (LGA), New York, NY.

TA-W-58,129O; United Airlines, Inc., Philadelphia International Airport (PHL), Philadelphia, PA.

TA-W-58,129P; United Airlines, Inc., Bradley International Airport (BDL), Windsor Locks, CT.

TA-W-58,129Q; United Airlines, Inc., Logan International Airport (BOS), Boston, MA.

TA-W-58,129R; United Airlines, Inc., Detroit/Wayne County Airport (DTW), Detroit, MI.

TA-W-58,129S; United Airlines, Inc., Baltimore/Washington International Airport (BWI), Baltimore, MD.

TA-W-58,129T; United Airlines, Inc., AFB Municipal Airport (CHS), Charleston, SC.

TA-W-58,129U; United Airlines, Inc., Airport (CHS), Washington, DC.

TA-W-58,129V; United Airlines, Inc., Airport (CHS), Dulles, VA.

TA-W-58,129W; United Airlines, Inc., Orlando International Airport (MCO), Orlando, FL.

TA-W-58,129X; United Airlines, Inc., Airport (CHS), Miami, FL.

TA-W-58,129Y; United Airlines, Inc., Indianapolis International Airport (IND), Indianapolis, IN.

TA-W-58,129Z; United Airlines, Inc., O'Hare International Airport (ORD), Chicago, IL.

TA-W-58,221; Cambridge Integrated Services Group, Inc., A Subsidiary of Cambridge Services Holdings, LLC, Mt. Clemens, MI.

TA-W-58,249; FMC Idaho, LLC, A Subsidiary of FMC Corporation, Formerly Astaris, LLC, Pocatello, ID.

TA-W-58,298; Messier Services, Inc., A Subsidiary of the Safran Group, Sterling, VA.

TA-W-58,094; Metron North America, Knoxville, TN.

The Department has determined that criterion (1) of Section 246 has not been met. Workers at the firm are 50 years of age or older.

TA-W-58,211; Fisher Technical Development, Inc., Columbia, MD.

The Department has determined that criterion (2) of Section 246 has not been met. Workers at the firm possess skills that are easily transferable.

TA-W-58,103; Panasonic Home Appliances Company, Danville, KY.

I hereby certify that the aforementioned determinations were issued during the month of November 2005. Copies of these determinations are available for inspection in Room C-5311, U.S. Department of Labor, 200 Constitution Avenue, NW., Washington, DC 20210 during normal business hours or will be mailed to persons who write to the above address.

Dated: November 29, 2005.
Erica R. Cantor,
Director, Division of Trade Adjustment Assistance.

[FR Doc. E5-6873 Filed 12-5-05; 8:45 am]

BILLING CODE 4510-30-P